DEPARTMENT OF TRANSPORTATION

Federal Highway Administration

Environmental Impact Statement: Orange County, CA

AGENCY: Federal Highway Administration (FHWA), DOT.

ACTION: Notice of Intent.

SUMMARY: The FHWA, on behalf of the California Department of Transportation (Caltrans), is issuing this notice to advise the public that a draft Environmental Impact Statement (EIS) will be prepared for a proposed highway project in Orange County, California.

DATES: The public scoping meetings will be held on the following dates:

(1) Tuesday, September 22, 2009, 6 PM-8 PM, Fountain Valley.

(2) Wednesday, September 23, 2009, 6 PM-8 PM, Huntington Beach.

(3) Wednesday, September 30, 2009, 6 PM-8 PM, Westminster.

(4) Thursday, October 01, 2009, 6 PM-8 PM, Rossmoor.

The final day to submit comments is October 8, 2009.

ADDRESSES: The four public scoping meetings will be held at the following locations.

(1) Fountain Valley Senior and Community Center, 17967 Bushard St., Fountain Valley, CA 92708.

(2) Huntington Beach Library, 7111 Talbert Avenue, Huntington Beach, CA 92648.

(3) Westminster Community Center—A/B Room, 8200 Westminster Avenue, Westminster, CA 92683.

(4) Rush Park Auditorium, 3021 Blume Drive, Rossmoor, CA 90720.

FOR FURTHER INFORMATION CONTACT: Smita Deshpande, Branch Chief, Caltrans-District 12, “Attn: 405 Scoping,” 2201 Dupont Drive, Suite 200, Irvine, CA 92612; Tel: 949.724.2000. 405scoping.parsons@parsons.com.

SUPPLEMENTARY INFORMATION: Effective July 1, 2007, the Federal Highway Administration (FHWA) assigned, and the California Department of Transportation (Caltrans) assumed, environmental responsibilities for this project pursuant to 23 U.S.C. 327. Caltrans, as the delegated National Environmental Policy Act (NEPA) agency, in cooperation with the Orange County Transportation Authority (OCTA), will prepare an environmental impact statement (EIS) on a proposal for a highway improvement project in Orange County, California. The proposed project covers approximately 14 miles and is located between State Route (SR) 73 and Interstate 605 (I-605) on Interstate 405 (I-405). The purpose of the project, as currently defined, is to increase capacity, improve traffic and interchange operations, and enhance safety on I-405 between SR-73 and I-605. Currently, the following alternatives are being considered:

• Baseline/No Build Alternative; taking no action.

• Build Alternative 1; adding one general purpose lane in each direction.

• Build Alternative 2; adding two general purpose lanes in each direction.

• Build Alternative 3; adding one toll lane to the existing carpool lane in each direction that will be managed together (Federal Highway Administration tolling authority required); also adding one general purpose lane in each direction north of Euclid Street to I-605.

• Build Alternative 4; on I-405 from Euclid Street to I-605, providing additional general purpose lane at various locations and improving various interchanges.

• Transportation Systems Management (TSM)/Transportation Demand Management (TDM)/Mass Transit Alternative; making only low-cost operational improvements, rather than major capital projects, to maximize the efficiency of the present highway system and expand travelers' transportation choices.

Based on a Preliminary Environmental Analysis Report (PEAR) for the I-405 Improvement Project, it is anticipated that the project may require the following Federal permits: Section 404 Permit for filling/dredging waters of the United States and Section 401 Water Quality Certification. The environmental document will analyze factors that include, but are not limited to, the following: Aesthetics, cultural resources, biological resources, hazardous wastes and materials, public services and facilities, water quality, floodplain, noise, air quality, recreation, community impacts, and transportation/traffic. Some of these alternatives may have impacts on the above mentioned resources, as well as on water quality, cultural resources, parks/recreation facilities, and community character and cohesion; the environmental documentation process will assess for potential impacts and suggest ways to reduce or mitigate them.

This document is available at http://www.octa.net/405improvement and http://www.dot.ca.gov/dist12/405/index.htm.

Letters describing the proposed action and soliciting comments will be sent to appropriate Federal, State, Participating Agencies, various Tribal governments, and local agencies, and to private organizations and citizens who have previously expressed or are known to have interest in this proposal. The environmental review process will begin in Fall 2009. Public scoping meetings will be held in Fountain Valley, Huntington Beach, Westminster, and Rossmoor, California, on September 22, 23, 30, and October 01, respectively. In addition, a public hearing will be held. Public notice will be given of the time and place of the meeting and hearing. The draft EIS will be available for public and agency review and comment prior to the public hearing.

To ensure that the full range of issues related to this proposed action are addressed and all significant issues identified, comments, and suggestions are invited from all interested parties. Comments or questions concerning this proposed action and the EIS should be directed to Ms. Deshpande at Caltrans at the address provided above.

(Catalog of Federal Domestic Assistance Program Number 20.205, Highway Research, Planning and Construction. The regulations implementing Executive Order 12372 regarding intergovernmental consultation on Federal programs and activities apply to this program.)

Issued on: August 26, 2009.
Cindy Vigue,
Director, State Programs, Federal Highway Administration, Sacramento, California.

[FR Doc. E9-21040 Filed 8-31-09; 8:45 am]

BILLING CODE 4910-22-P